DEPARTMENT OF HOMELAND SECURITY

Federal Emergency Management Agency

[Docket ID FEMA-2014-0002]

Final Flood Hazard Determinations

AGENCY: Federal Emergency Management Agency, DHS.

ACTION: Final notice.

SUMMARY: Flood hazard determinations, which may include additions or modifications of Base Flood Elevations (BFEs), base flood depths, Special Flood Hazard Area (SFHA) boundaries or zone designations, or regulatory floodways on the Flood Insurance Rate Maps (FIRMs) and where applicable, in the supporting Flood Insurance Study (FIS) reports have been made final for the communities listed in the table below.

The FIRM and FIS report are the basis of the floodplain management measures that a community is required either to adopt or to show evidence of having in effect in order to qualify or remain qualified for participation in the Federal Emergency Management Agency's (FEMA's) National Flood Insurance Program (NFIP). In addition, the FIRM and FIS report are used by insurance agents and others to calculate appropriate flood insurance premium rates for buildings and the contents of those buildings.

DATES: The effective date of February 18, 2015 which has been established for the FIRM and, where applicable, the supporting FIS report showing the new or modified flood hazard information for each community.

ADDRESSES: The FIRM, and if applicable, the FIS report containing the final flood hazard information for each community is available for inspection at the respective Community Map Repository address listed in the tables below and will be available online through the FEMA Map Service Center at www.msc.fema.gov by the effective date indicated above.

FOR FURTHER INFORMATION CONTACT: Luis Rodriguez, Chief, Engineering Management Branch, Federal Insurance and Mitigation Administration, FEMA500 C Street SW., Washington, DC 20472, (202) 646-4064, or (email) Luis.Rodriguez3@fema.dhs.gov; or visit the FEMA Map Information eXchange (FMIX) online at www.floodmaps.fema.gov/fhm/fmx_main.html.

SUPPLEMENTARY INFORMATION: The Federal Emergency Management Agency (FEMA) makes the final determinations listed below for the new or modified flood hazard information for each community listed. Notification of these changes has been published in newspapers of local circulation and 90 days have elapsed since that publication. The Deputy Associate Administrator for Mitigation has resolved any appeals resulting from this notification.

This final notice is issued in accordance with section 110 of the Flood Disaster Protection Act of 1973, 42 U.S.C. 4104, and 44 CFR part 67. FEMA has developed criteria for floodplain management in floodprone areas in accordance with 44 CFR part 60.

Interested lessees and owners of real property are encouraged to review the new or revised FIRM and FIS report available at the address cited below for each community or online through the FEMA Map Service Center at www.msc.fema.gov.

The flood hazard determinations are made final in the watersheds and/or communities listed in the table below.

(Catalog of Federal Domestic Assistance No. 97.022, “Flood Insurance.”)

Dated: December 11, 2014.
Roy E. Wright,
Deputy Associate Administrator for Mitigation, Department of Homeland Security, Federal Emergency Management Agency.

Community | Community map repository address
Mohave County, Arizona, and Incorporated Areas
Docket No.: FEMA-B-1351
City of Kingman | City Hall, 310 North 4th Street, Kingman, AZ 86401.
Unincorporated Areas of Mohave County | County Administration Building, 700 West Beale Street, Kingman, AZ 86401.
San Bernardino County, California, and Incorporated Areas
Docket No.: FEMA-B-1351
City of Ontario | City Hall, Engineering Department Public Counter, 303 East B Street, Ontario, CA 91764.
City of Rancho Cucamonga | City Hall, Engineering Department Plaza Level, 10500 Civic Center Drive, Rancho Cucamonga, CA 91730.
Fayette County, Indiana, and Incorporated Areas
Docket No.: FEMA-B-1348
City of Connersville | Fayette County Area Plan Commission, Courthouse Annex, 401 North Central Avenue, Connersville, IN 47331.
Unincorporated Areas of Fayette County | Fayette County Area Plan Commission, Courthouse Annex, 401 North Central Avenue, Connersville, IN 47331.
Anne Arundel County, Maryland and Incorporated Areas
Docket No.: FEMA-B-1352
City of Annapolis | Department of Neighborhood and Environmental Programs, 145 Gorman Street, Annapolis, MD 21401.
Town of Highland Beach | Town Hall, 3243 Walnut Drive, Highland Beach, MD 21403.
Unincorporated Areas of Anne Arundel County | Anne Arundel County Department of Inspections and Permits, 2664 Riva Road, Annapolis, MD 21401.
Newaygo County, Michigan (All Jurisdictions)
Docket No.: FEMA-B-1348
Charter Township of Sheridan | Township Hall, 6360 South Township Parkway, Fremont, MI 49412.
City of Fremont | City Hall, 101 East Main Street, Fremont, MI 49412.
City of Newaygo | City Hall, 28 North State Road, Newaygo, MI 49337.
City of White Cloud | City Hall, 12 North Charles Street, White Cloud, MI 49349.
Township of Ashland | Township Hall, 2019 West 120th Street, Grant, MI 49327.
Township of Bridgeton | Township Hall, 11830 South Warner Avenue, Grant, MI 49327.
Township of Brooks | Township Hall, 490 Quarterline Road, Newaygo, MI 49337.
Township of Croton | Township Hall, 5833 East Division Street, Newaygo, MI 49337.
Township of Dayton | Township Hall, 3215 South Stone Road, Fremont, MI 49412.
Township of Everett | Township Hall, 1516 East 8th Street, White Cloud, MI 49349.
Township of Garfield | Township Hall, 7910 South Bingham Avenue, Newaygo, MI 49337.
Township of Lilley | Multi Purpose Building, 10767 Prospect Avenue, Bitely, MI 49309.
Township of Lincoln | Township Hall, 1988 North Wisner Avenue, White Cloud, MI 49349.
Township of Merrill | Township Hall, 1585 West 11 Mile Road, Bitely, MI 49309.
Township of Sherman | Township Hall, 2168 South Wisner Avenue, Fremont, MI 49412.
Township of Wilcox | Township Hall, 1795 North Evergreen Drive, White Cloud, MI 49349.
King George County, Virginia (All Jurisdictions)
Docket No.: FEMA-B-1359
Unincorporated Areas of King George County | King George County Community Development Department, 10459 Courthouse Drive, Suite 104, King George, VA 22485.
Northumberland County, Virginia (All Jurisdictions)
Docket No.: FEMA-B-1352
Unincorporated Areas of Northumberland County | Northumberland County Building and Zoning Department, 72 Monument Place, Heathsville, VA 22473.
Stafford County, Virginia (All Jurisdictions)
Docket No.: FEMA-B-1359
Unincorporated Areas of Stafford County | Stafford County Administration Center, Department of Code Administration, 1300 Courthouse Road, Stafford, VA 22554.

[FR Doc. 2014-30683 Filed 12-30-14; 8:45 am]

BILLING CODE 9110-12-P